FEDERAL ELECTION COMMISSION

Sunshine Act Meeting

Previously Announced Date & Time: Thursday, September 20, 2007, 10 AM Meeting closed To the Public. This Meeting Was Cancelled.

DATE and Time: Wednesday, October 10, 2007 at 10 AM.

Place: 999 E Street, NW., Washington, DC.

Status: This meeting will be closed to the public.

Items To Be Discussed: Compliance matters pursuant to 2 U.S.C. 437g.

Audits conducted pursuant to 2 U.S.C. § 437g, 438(b), and Title 26, U.S.C.

Matters concerning participation in civil actions or proceedings or arbitration.

Internal personnel rules and procedures or matters affecting a particular employee.

DATE and Time: Thursday, October 11, 2007 at 10 AM.

Place: 999 E Street, NW., Washington, DC. (ninth floor)

Status: This meeting will be open to the public.

Items To Be Discussed: Correction and Approval of Minutes.

Draft Advisory Opinion 2007-15: GMAC LLC, by counsel, Jan Witold Baran and Caleb P. Burns.

Draft Advisory Opinion 2007-16: American Kennel Club, Inc., by counsel, Timothy W. Jenkins.

Draft Advisory Opinion 2007-17: Democratic Senatorial Campaign Committee, by counsel, Marc E. Elias.

Draft Advisory Opinion 2007-18: Rangel for Congress and the National Leadership PAC, by counsel, Phu Huynh.

Report of the Audit Division on Edwards for President.

Management and Administrative Matters.

Person To Contact for Information: Mr. Robert Biersack, Press Officer, Telephone: (202) 694-1220.

Mary W. Dove,
Secretary of the Commission.

[FR Doc. 07-4967 Filed 10-3-07; 1:16 pm]

BILLING CODE 6715-01-M